DEPARTMENT OF STATE

[Public Notice 3492]

Bureau of Educational and Cultural Affairs; Project in Curriculum Development and Faculty Training at the University of Pristina, Kosovo; Request for Grant Proposals

SUMMARY: The Office of Global Educational Programs of the Bureau of Educational and Cultural Affairs in the Department of State announces an open competition for an assistance award to support the development of programs of instruction and faculty training at the University of Pristina in one or both of the following two fields: (1) Business management and entrepreneurship; and (2) public administration. Organizations meeting the provisions described in IRS regulation 26 CFR 1.501(c) may submit proposals that address one or both of these objectives. The means for achieving these objectives may include mentoring, teaching, consultation, research, distance education, internship training, and professional outreach to public and private sector managers, entrepreneurs, and local government administrators in Kosovo.

Overview and Project Objectives: The project is designed to assist the University of Pristina to develop a modern program in business management education to facilitate the development of entrepreneurial and business activity in Kosovo. The project is also designed to enable the University of Pristina to develop a program of instruction in public administration to increase efficiency and accountability in the administration of the public sector in Kosovo. Applicants may submit proposals focusing on either, or both of the two disciplines.

In business management, proposals should emphasize practical strategies to assist the faculty to develop a new curriculum in business management focusing on accounting, finance, banking, entrepreneurship, and the role of women in business. In public administration, proposed activities should assist with curriculum design and faculty training in local government administration, taxation, financial management, land registry/ownership and property rights. The inclusion of organizational development and personnel management among proposed activities is also encouraged. Proposals should include an emphasis on providing practical training and hands-on experience in local government administration as well as techniques for drafting legislation. Proposals should explain how the public administration program will equip the University to promote concepts of accountability and transparency in the administration of the public sector in Kosovo.

Bureau policy stipulates that awards to organizations with less than four years experience in conducting international exchanges are limited to $60,000. The Bureau anticipates awarding either two grants not to exceed $221,300 (one grant for each one of the two designated disciplines), or one grant not to exceed $442,600 to work in both disciplines. Funds will be awarded for a period up to two years to defray the costs of exchanges, to provide educational materials, and to increase library holdings and improve Internet connections. Up to 30% of the grant total may be used to defray the costs of project administration.

The project should pursue these objectives through a strategy that coordinates the participation of junior and senior level faculty, administrators, or graduate students for any appropriate combination of teaching, mentoring, internships, in-service training and outreach, for exchange visits ranging from one week to an academic year. Visits of one semester or longer for participants from Kosovo are strongly encouraged and program activities must be tied to the goals and objectives of the program. The strategy may include intensive English language training for selected participants, whose prior knowledge of English may need to be refreshed.

If the proposed project would occur within the context of a previous or ongoing project, the proposal should explain how the request for Bureau funding would build upon the pre-existing relationship or complement previous and concurrent projects, which must be listed and described with details about the amounts and sources of external support. Previous projects should be described in the proposal, and the results of the evaluation of previous cooperative efforts should be summarized.

U.S. Institution and Participant Eligibility: In the United States, participation in the program is open to accredited two and four-year colleges and universities, including graduate schools, as well as to other organizations meeting the provisions described in IRS regulation 26 CFR 1.501(c). Applications from consortia or other combinations of U.S. colleges and universities are eligible. The lead U.S. organization in the consortium or other combination of cooperating institutions is responsible for submitting the application. Each application must document the lead organization's authority to represent all U.S. cooperating partners.

With the exception of an outside consultant reporting on the degree to which project objectives have been achieved, participants who are traveling under the Bureau's grant funds must be teachers, advanced graduate students, who are teaching or research assistants, or administrators from the participating institution(s). Advanced graduate students are eligible for Bureau-funded participation in this program only if they are working under the direction of an accompanying faculty participant.

Kosovo Institutional and Participant Eligibility: In Kosovo, the partner is the University of Pristina. Secondary foreign partners may include relevant governmental and non-governmental organizations, as well as non-profit service and professional organizations concerned with issues in business development and/or public administration training in Kosovo. Foreign participants will be selected in consultation with the U.S. Office in Pristina and must be instructors at the University of Pristina, or persons preparing to become instructors at the University of Pristina, who are eligible to receive a J-1 visa.

Budget Guidelines: Applicants may submit a budget up to $221,300 for projects focusing on one discipline, or a budget up to $442,600 for projects focusing on both of them. Requests for amounts smaller than the maximum are eligible. Budget notes should carefully justify the amounts needed. There must be a summary budget as well as a breakdown reflecting the program and administrative budgets including unit costs. Applicants submitting a budget for the combined program must separate budgets for each sub-project. Cost-sharing will be considered an important indicator of institutional commitment. Please refer to the Solicitation Package for complete guidelines and formatting instructions.

Announcement Title and Number: All correspondence with the Bureau of Educational and Cultural Affairs concerning this RFGP should reference the above title “Project in Curriculum Development and Faculty Training at the University of Pristina” and reference number ECA/A/S/U-01-04.

FOR FURTHER INFORMATION CONTACT: Contact the Humphrey Fellowships and Institutional Linkages Branch, Office of Global Educational Programs, Bureau of Educational and Cultural Affairs; ECA/A/S/U, Room 349, SA-44; U.S. Department of State, 301 4th Street, SW., Washington, DC 20547, phone (202) 619-5289, fax: (202) 401-1433, e-mail: affiliation@pd.state.gov to request a Solicitation Package.

The Solicitation Package contains detailed award criteria, required application forms, and guidelines for preparing proposals, including specific criteria for preparation of the proposal budget. Please specify the above reference number on all inquiries and correspondence.

Please read the complete Federal Register announcement before sending inquiries or submitting proposals. Once the RFGP deadline has passed, Bureau staff may not discuss this competition with applicants until the proposal review process has been completed.

To Download A Solicitation Package Via Internet: The entire Solicitation Package may be downloaded from the Bureau's website at http://exchanges.state.gov/education/rfgps. Please read all information before downloading.

Deadline of Proposals: All proposal copies must be received at the Bureau of Educational and Cultural Affairs by 5 p.m. Washington DC time on Wednesday, March 14, 2001. Faxed documents will not be accepted at any time. Documents postmarked by the due date but received on a later date will not be accepted. It is the responsibility of each applicant to ensure compliance with the deadline.

Approximate Program Dates: Grants should begin on or about August 1, 2001.

Duration: August 1, 2001-August 30, 2003.

Submissions: Applicants must follow all instructions in the Solicitation Package. The original and 10 copies of the application should be sent to: U.S. Department of State, SA-44, Ref.: ECA/A/S/U-01-04, Program Management, ECA/EX/PM, Room 534, 301 4th Street, SW., Washington, DC 20547.

All copies should include the documents specified under Tabs A through E in the “Project Objectives, Goals, and Implementation” (POGI) section of the Solicitation Package. The documents under Tab F of the POGI should be submitted with the original application and with one of the ten copies.

Proposals that do not follow RFGP requirements and the guidelines appearing in the POGI and PSI may be excluded from consideration due to technical ineligibility.

Applicants must also submit the “Executive Summary” and “Proposal Narrative” Sections of the proposal on a 3.5″ diskette, formatted for DOS. This material must be provided in ASCII text (DOS) format with a maximum line length of 65 characters. The Bureau will transmit these files electronically to the U.S. Office in Pristina for its review, with the goal of reducing time it takes to get the post's comments for the Bureau's grants review process.

Diversity, Freedom and Democracy Guidelines: Pursuant to the Bureau's authorizing legislation, programs must maintain a non-political character and should be balanced and representative of the diversity of American political, social, and cultural life. “Diversity” should be interpreted in the broadest sense and encompass differences including, but not limited to ethnicity, race, gender, religion, geographic location, socio-economic status, and physical challenges. Applicants are strongly encouraged to adhere to the advancement of this principle both in program administration and in program content. Please refer to the review criteria under the ‘Support for Diversity’ section for specific suggestions on incorporating diversity into the total proposal. Public Law 104-319 provides that “in carrying out programs of educational and cultural exchange in countries whose people do not fully enjoy freedom and democracy,” the Bureau “shall take appropriate steps to provide opportunities for participation in such programs to human rights and democracy leaders of such countries.” Public Law 106-113 requires that the governments of the countries described above do not have inappropriate influence in the selection process. Proposals should reflect advancement of these goals in their program contents, to the full extent deemed feasible.

Review Process: The Bureau will acknowledge receipt of all proposals and will review them for technical eligibility. Proposals will be deemed ineligible if they do not fully adhere to the guidelines stated herein and in the Solicitation Package. All eligible proposals will be reviewed by the program office, as well as the U.S. Office in Pristina. Eligible proposals will be subject to compliance with Federal and Bureau regulations and guidelines and forwarded to Bureau grant panels for advisory review. Proposals may also be reviewed by the Office of the Legal Adviser or by other Department elements. Final funding decisions are at the discretion of the Department of State's Assistant Secretary for Educational and Cultural Affairs. Final technical authority for assistance awards (grants or cooperative agreements) resides with the Bureau's Grants Officer.

Review Criteria: State Department officers in Washington, DC and overseas will use the criteria below to reach funding recommendations and decisions. Technically eligible applications will be competitively reviewed according to the criteria stated below. These criteria are not rank-ordered or weighted.

1. Quality of the Program Idea: Proposals should exhibit originality, substance, precision, and resourcefulness. Proposals should exhibit sensitivity to the region, and have reasonable and feasible project objectives that are relevant to the needs of the University of Pristina. Proposals should describe projected benefits to the institutions involved as well as to wider communities of educators and practitioners in Kosovo.

2. Program Planning: Proposals should include creative, realistic and feasible program plans to achieve project objectives and a detailed schedule, which should include a well-reasoned combination of useful and appropriate mentoring, teaching training and methodology workshops, and outreach activities supporting the project objectives.

3. Support of Diversity: Proposals should demonstrate substantive support of the Bureau's policy on diversity by explaining how issues of diversity relate to project objectives and how these issues will be addressed during project implementation. Proposals should also outline the institutional profile of each participating institution with regard to issues of diversity.

4. Institutional Capacity and Commitment: Proposals should demonstrate significant understanding of the institutional needs and capacities at the University of Pristina as well as the U.S. institution's capacities, and should demonstrate a strong commitment, during and after the period of the grant activity, to on-going cooperation. Relevant factors include: The match between participating organizations or departments, and availability of sufficient number of faculty and/or administrators willing and able to participate in project activities. Proposals should demonstrate the promise of sustainability and long-term impact, as reflected in a plan for follow-on activities.

5. Institutional Record/Ability: Proposals should demonstrate an institutional record of administering successful exchange programs, including responsible fiscal management and full compliance with all reporting requirements for past Bureau grants as determined by the State Department's contracts officers. The Bureau will consider the past performance of prior award recipients and the demonstrated potential of new applicants. Reviewers will also consider the quality of exchange participants' academic credentials, skills, commitment and experience relative to the goals and activities of the project plan.

6. Project Evaluation: The proposal should outline a methodology to assess progress toward the achievement of project goals. The final evaluation should include an external component and observations about anticipated long-term impact on business conditions and/or public sector administration in Kosovo.

7. Cost-Effectiveness: Administrative and program costs should be reasonable and appropriate with cost sharing provided as a reflection of the applicant's commitment to the pursuit of project objectives.

Authority

Overall grant making authority for this program is contained in the Mutual Educational and Cultural Exchange Act of 1961, Public Law 87-256, as amended, also known as the Fulbright-Hays Act. The purpose of the Act is “to enable the Government of the United States to increase mutual understanding between the people of the United States and the people of other countries * * *; to strengthen the ties which unite us with other nations by demonstrating the educational and cultural interests, developments, and achievements of the people of the United States and other nations * * * and thus to assist in the development of friendly, sympathetic and peaceful relations between the United States and the other countries of the world.” The funding authority for the program cited above is provided through the Support for East European Democracy (SEED) Act of 1989.

Notice

The terms and conditions published in this RFGP are binding and may not be modified by any Bureau representative. Explanatory information provided by the Bureau that contradicts published language will not be binding. Issuance of the RFGP does not constitute an award commitment on the part of the Government.

The Bureau reserves the right to reduce, revise, or increase proposal budgets in accordance with the needs of the program and the availability of funds. Awards made will be subject to periodic reporting and evaluation requirements.

Projects must conform with Bureau requirements and guidelines outlined in the solicitation package. The POGI, a document describing this project's objectives, goals, and implementation, is included in the solicitation package.

Notification

Final awards cannot be made until funds have been appropriated by Congress, allocated and committed through internal Bureau procedures.

Dated: November 29, 2000.
William B. Bader,
Assistant Secretary, Bureau of Educational and Cultural Affairs, U.S. Department of State.

[FR Doc. 00-31077 Filed 12-6-00; 8:45 am]

BILLING CODE 4710-24-P